DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 28, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Internal Revenue Service (IRS)

Title: Security Summit application process.

OMB Control Number: 1545-XXXX.

Type of Review: Revision of a currently approved collection.

Description: The IRS has joined with representatives of the software industry, tax preparation firms, payroll and tax financial product processors and state tax administrators to combat identity theft refund fraud to protect the nation's taxpayers. The Security Summit consists of IRS, state tax agencies and the tax community, including tax preparation firms, software developers, payroll and tax financial product processors, tax professional organizations and financial institutions. Form 15058—Application for Security Summit Membership, is the application form for membership.

Forms: Application for Security Summit Membership.

Affected Public: State, Local, and Tribal Governments.

Estimated Number of Respondents: 62.

Frequency of Response: Annually.

Estimated Total Number of Annual Responses: 62.

Estimated Time per Response: .08 hours per response.

Estimated Total Annual Burden Hours: 5.

Title: Application for Renewal of Enrollment to Practice before the Internal Revenue Service; Application for Renewal of Enrollment to Practice before the Internal Revenue Service s an Enrolled Retirement Pl.

OMB Control Number: 1545-0946.

Type of Review: Revision of a currently approved collection.

Description: Section 10.6(d) of Treasury Department Circular No. 230, Regulations Governing the Practice of Attorneys, Certified Public Accountants, Enrolled Agents, Enrolled Actuaries and Appraisers before the Internal Revenue Service (31 CFR part 10), requires that those who are enrolled to practice before the Internal Revenue Service renew such enrollment periodically. Form 8554 is an application for renewal mailed to all enrolled agents each year. Form 8554-EP is used to renew your Enrolled Retirement Plan Agent (ERPA) status.

Forms: 8554, 8554-EP.

Affected Public: Businesses or other for profits.

Estimated Number of Respondents: 62,000.

Frequency of Response: Annually.

Estimated Total Number of Annual Responses: 21,800.

Estimated Time per Response: .33 hours per response.

Estimated Total Annual Burden Hours: 7,267.

Title: Arbitrage Rebate, Yield Restrictions and Penalty in Lieu of Arbitrage Rebate.

OMB Control Number: 1545-1219.

Type of Review: Revision of a currently approved collection.

Description: Sections 143 and 148 require bond issuers to pay a rebate to the United States if the proceeds of a bond issue are used for arbitrage and the issuer wishes the bonds to retain their exempt status. Section 148 also contains provisions for election and/or payment of various penalties associated with arbitrage bonds. Form 8038-T is used by issuers of tax exempt bonds to report and pay the arbitrage rebate and to elect and/or pay various penalties associated with arbitrage bonds. These issuers include state and local governments.

Forms: 8038-T.

Affected Public: State, Local, and Tribal Governments.

Estimated Number of Respondents: 3,900.

Frequency of Response: Annually.

Estimated Total Number of Annual Responses: 3,900.

Estimated Time per Response: 23.16 hours per response.

Estimated Total Annual Burden Hours: 59,325.

Title: TD 9178—Testimony or Production of Records in a Court or Other Proceeding.

OMB Control Number: 1545-1850.

Type of Review: Extension without change of a currently approved collection.

Description: This document contains previously approved final regulations replacing the existing regulation that establishes the procedures to be followed by IRS officers and employees upon receipt of a request or demand for disclosure of IRS records or information. The purpose of the final regulations is to provide specific instructions and to clarify the circumstances under which more specific procedures take precedence. The final regulations extend the application of the regulation to former IRS officers and employees as well as to persons who are or were under contract to the IRS. The final regulations affect current and former IRS officers, employees and contractors, and persons who make requests or demands for disclosure.

Form: None.

Affected Public: Individuals or Households.

Estimated Number of Respondents: 1,400.

Frequency of Response: On Occasion.

Estimated Total Number of Annual Responses: 1,400.

Estimated Time per Response: 1 hour per response.

Estimated Total Annual Burden Hours: 1,400.

Title: Form 8912—Clean Renewable Energy Bond Credit and Gulf Bond Credit.

OMB Control Number: 1545-2025.

Type of Review: Revision of a currently approved collection.

Description: Form 8912, Clean Renewable Energy Bond Credit and Gulf Bond Credit, was developed to carry out the provisions of new Internal Revenue Code sections 54 and 1400N(l). The form provides a means for the taxpayer to compute the clean renewable energy bond credit and the Gulf bond credit.

Form: 8912.

Affected Public: Businesses or other for-profits.

Estimated Number of Respondents: 50.

Frequency of Response: Annually.

Estimated Total Number of Annual Responses: 50.

Estimated Time per Response: 13.78 hours per response.

Estimated Total Annual Burden Hours: 689.

Title: Tax Return Preparer Complaint Process and Fraud or Misconduct Affidavit.

OMB Control Number: 1545-2168.

Type of Review: Revision of a currently approved collection.

Description: These forms (14157 and 14157-A), are designed specifically for tax return preparer complaints and include the items necessary for the IRS to evaluate and route to the appropriate function. The form will be used by taxpayers to report allegations of misconduct by tax return preparers.

Form: 14157-A, 14157.

Affected Public: Businesses or other for profits.

Estimated Number of Respondents: 7,500.

Frequency of Response: On Occasion.

Estimated Total Number of Annual Responses: 7,500.

Estimated Time per Response: .21 hours per response.

Estimated Total Annual Burden Hours: 1,593.

Authority: 44 U.S.C. 3501 et seq.

Dated: June 17, 2019.
Jennifer P. Quintana,
Treasury PRA Clearance Officer.

[FR Doc. 2019-15984 Filed 7-26-19; 8:45 am]

BILLING CODE 4830-01-P